DEPARTMENT OF LABOR

Employment and Training Administration

Investigations Regarding Eligibility To Apply for Worker Adjustment Assistance

Petitions have been filed with the Secretary of Labor under section 221(a) of the Trade Act of 1974 (“the Act”) and are identified in the Appendix to this notice. Upon receipt of these petitions, the Director of the Office of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than July 10, 2015.

Interested persons are invited to submit written comments regarding the subject matter of the investigations to the Director, Office of Trade Adjustment Assistance, at the address shown below, not later than July 10, 2015.

The petitions filed in this case are available for inspection at the Office of the Director, Office of Trade Adjustment Assistance, Employment and Training Administration, U.S. Department of Labor, Room N-5428, 200 Constitution Avenue NW., Washington, DC 20210.

Signed at Washington, DC this 3rd day of June 2015.
Michael W. Jaffe,
Certifying Officer, Office of Trade Adjustment Assistance.

Appendix—45 TAA Petitions Instituted Between 5/11/15 and 5/29/15
TA-W | Subject firm (petitioners) | Location | Date of institution | Date of petition
86001 | Boeing Commercial Aircraft (Union) | Tukwila, WA | 05/11/15 | 05/08/15
86002 | Cameron (State/One-Stop) | Little Rock, AR | 05/11/15 | 05/08/15
86003 | CompuCom (State/One-Stop) | Bentonville, AR | 05/11/15 | 05/08/15
86004 | Cooper Power Systems (State/One-Stop) | Fayetteville, AR | 05/11/15 | 05/08/15
86005 | DCP Midstream (State/One-Stop) | Tulsa, OK | 05/11/15 | 05/08/15
86006 | Norris Rods, Inc. (State/One-Stop) | Tulsa, OK | 05/11/15 | 05/08/15
86007 | Goldwin America, Inc a Subsidiary of Godwin Inc. (State/One-Stop) | Manhattan Beach, CA | 05/11/15 | 05/08/15
86008 | John Deere Des Moines Works (State/One-Stop) | Ankeny, IA | 05/11/15 | 05/08/15
86009 | DestaDrilling (Workers) | Odessa, TX | 05/12/15 | 05/11/15
86010 | Convergys Corporation Pharr Texas (Workers) | Pharr, TX | 05/13/15 | 05/12/15
86011 | Goodman Networks, Inc. (Company) | Plano including remote workers, TX | 05/13/15 | 05/12/15
86012 | Gildan Apparel USA, Inc. (New Buffalo Shirt Factory) (Company) | Clarence, NY | 05/13/15 | 05/11/15
86013 | Samson Resources (Workers) | Tulsa, OK | 05/14/15 | 05/13/15
86014 | Newell Rubbermaid—Levolor (State/One-Stop) | Ogden, UT | 05/15/15 | 04/14/15
86015 | Bandai America Inc. (State/One-Stop) | Cypress, CA | 05/15/15 | 05/13/15
86016 | Rexnord Gear Products Division (State/One-Stop) | Milwaukee, WI | 05/15/15 | 05/07/15
86017 | TMK—IPSCO (Company) | Houston, TX | 05/15/15 | 04/04/15
86018 | Intel Corporation (Workers) | Rio Rancho, NM | 05/18/15 | 05/15/15
86019 | Exide Technologies (State/One-Stop) | Manchester, IA | 05/19/15 | 05/18/15
86020 | Harsco Air Exchangers (State/One-Stop) | Catoosa, OK | 05/20/15 | 05/19/15
86021 | The Shredder Company, LLC. (Workers) | Canutillo, TX | 05/20/15 | 05/19/15
86022 | Oil States Energy Services (Workers) | Cannonsburg, PA | 05/20/15 | 05/20/15
86023 | Team Oil Tools (State/One-Stop) | Tulsa, OK | 05/20/15 | 05/19/15
86024 | Chart Industries (State/One-Stop) | Owatonna, MN | 05/20/15 | 05/19/15
86025 | Actavis, Inc.—(Watson Laboratories, Inc.) (State/One-Stop) | Corona, CA | 05/21/15 | 05/20/15
86026 | Gardner-Denver (Workers) | Tulsa, OK | 05/21/15 | 04/29/15
86027 | Pittsburgh Corning Corporation (Union) | Port Allegany, PA | 05/22/15 | 05/21/15
86028 | Transicoil (Company) | Collegeville, PA | 05/22/15 | 05/21/15
86029 | Cadmus Communication, a Cenveo Company (Workers) | Lancaster, PA | 05/22/15 | 05/21/15
86030 | Goodman Networks, Inc. (Workers) | Plano, TX | 05/26/15 | 05/22/15
86031 | Oil State Industries International (State/One-Stop) | Tulsa, OK | 05/26/15 | 05/22/15
86032 | Tefelex Medical, Inc. (Company) | Asheboro, NC | 05/26/15 | 05/22/15
86033 | DexMedia (Union) | Bethlehem, PA | 05/26/15 | 05/22/15
86034 | Technicolor Creative Services (Workers) | Hollywood, CA | 05/26/15 | 05/22/15
86035 | Sykes Home Powered by Alpine Access (Workers) | Denver, CO | 05/26/15 | 05/24/15
86036 | Flowers Foods, Inc. (State/One-Stop) | Waterloo, IA | 05/26/15 | 05/22/15
86037 | Craftwood, Inc. (Workers) | High Point, NC | 05/27/15 | 05/26/15
86038 | Pearson (Workers) | Old Tappan, NJ | 05/28/15 | 05/27/15
86039 | Arcelormittal—Georgetown (Union) | Georgetown, SC | 05/28/15 | 05/27/15
86040 | ATOS IT Solutions and Services, Inc. (Company) | Mason, OH | 05/29/15 | 05/28/15
86041 | LA Darling Wood (Workers) | Piggott, AR | 05/29/15 | 05/28/15
86042 | S&R Equipment Co (State/One-Stop) | Austin, TX | 05/29/15 | 05/28/15
86043 | UBM, LLC (State/One-Stop) | Manhasset, NY | 05/29/15 | 05/28/15
86044 | Interfor (Union) | Tacoma, WA | 05/29/15 | 05/27/15
86045 | Riley Gear Corporation (Union) | North Tonawanda, NY | 05/29/15 | 05/28/15

[FR Doc. 2015-15962 Filed 6-29-15; 8:45 am]

BILLING CODE 4510-FN-P